ENVIRONMENTAL PROTECTION AGENCY

[FRL-10003-88-Region 6]

Notice of Availability of Final Designation of Certain Stormwater Discharges in the State of New Mexico Under the National Pollutant Discharge Elimination System of the Clean Water Act

AGENCY: Environmental Protection Agency (EPA).

ACTION: Notice.

SUMMARY: The Regional Administrator of the Environmental Protection Agency Region 6 (EPA) is providing notice of the availability of EPA's final determination that storm water discharges from the Los Alamos Urban Cluster (as defined by the 2010 Decennial Census) and Los Alamos National Laboratory (LANL) property are contributing to violations of New Mexico water quality standards (WQS) and require National Pollutant Elimination System (NPDES) permit coverage under the Clean Water Act (CWA). This action is in response to a June 30, 2014 petition filed with EPA by Amigos Bravos entitled “A Petition by Amigos Bravos for a Determination that Storm Water Discharges in Los Alamos County Contribute to Water Quality Standards Violations and Require a Clean Water Act Permit.”

DATES: EPA's Designation Decision and Record of Decision in Response to Petition by Amigo Bravos for a Determination that Stormwater Discharges in Los Alamos County Contribute to Water Quality Standards Violations and Require a Clean Water Act Permit (“EPA's Decision Document”) was signed on December 16, 2019.

ADDRESSES: For further information contact Ms. Evelyn Rosborough via email: rosborough.evelyn@epa.gov, or may be mailed to Ms. Evelyn Rosborough, Environmental Protection Agency, Water Division (6WQ-NP), 1201 Elm Street, Suite 500, Dallas, TX 75270.

SUPPLEMENTARY INFORMATION: EPA is providing notice of availability of its final determination that stormwater discharges from MS4s located in the portion of Los Alamos County within the Los Alamos Urban Cluster (as defined by the 2010 Decennial Census) and on Los Alamos National Laboratory (LANL) property within Los Alamos County and Santa Fe County are contributing to violations of New Mexico water quality standards (WQS) and require NPDES permit coverage. EPA's final designation determination is made pursuant to the authority of CWA § 402(p)(2)(E) and 40 CFR 122.26(a)(9)(i)(D) and 122.26(f)(2). CWA § 402(p)(2)(E) and 40 CFR 122.26 (a)(9)(i)(D) allow EPA to designate for NPDES permit coverage stormwater discharges that EPA determines are contributing to violations of WQS, but are not otherwise required to be permitted under EPA's stormwater regulations.

Details of EPA's final designation determination are available in EPA's Decision Document. EPA's Decision Document and ancillary materials may be viewed on the EPA Region 6 web page at https://www.epa.gov/npdes/epas-residual-designation-authority.

Issued on: Dated: December 16, 2019.
Ken McQueen,
Regional Administrator, U.S. Environmental Protection Agency, Region 6.

[FR Doc. 2020-00981 Filed 1-21-20; 8:45 am]

BILLING CODE 6560-50-P